DEPARTMENT OF TRANSPORTATION

Federal Aviation Administration

[Docket No. FAA-2024-1448]

Agency Information Collection Activities: Requests for Comments; Clearance of a Renewed Approval of Information Collection: Reporting of Information Using Special Airworthiness Information Bulletin

AGENCY: Federal Aviation Administration (FAA), DOT.

ACTION: Notice and request for comments.

SUMMARY: In accordance with the Paperwork Reduction Act of 1995, the FAA invites public comments about our intention to request the Office of Management and Budget (OMB) approval to renew an information collection. The Federal Register Notice with a 60-day comment period soliciting comments on the following collection of information was published on July 23, 2024. The collection involves a voluntary request for information on a specific safety concern. The information to be collected will be used to help the FAA in an ongoing investigation to determine the cause of a specific condition, or whether the condition is likely to exist or develop on other aircraft, aircraft engines, propellers, or appliances of the same type design.

DATES: Written comments should be submitted by November 12, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Scott Wessley by email at: scott.wessley@faa.gov; phone: 816-329-4148.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0731.

Title: Reporting of Information Using Special Airworthiness Information Bulletin.

Form Numbers: None.

Type of Review: Renewal of an information collection.

Background: The Federal Register Notice with a 60-day comment period soliciting comments on the following collection of information was published on July 23, 2024 (89 FR 59797). A special airworthiness information bulletin (SAIB) is an information tool that the FAA uses to alert, educate, and make recommendations to the aviation community about ways to improve the safety of a product. An SAIB contains non-regulatory, non-mandatory information and guidance for safety issues that do not meet the criteria for airworthiness directive (AD) action under title 14 of the Code of Federal Regulations (14 CFR) part 39. An SAIB may include recommended actions or inspections with a request for voluntary reporting of inspection results.

Respondents: Respondents may include mechanics, type clubs, owners, and operators of aircraft.

Frequency: Information is collected as needed to acquire additional information on a specific condition.

Estimated Average Burden per Response: 5 minutes.

Estimated Total Annual Burden: 558 hours.

Issued on September 23, 2024.
Hollister B. Thorson,
Manager, Airworthiness Products Section, Operational Safety Branch, Compliance & Airworthiness Division, Aircraft Certification Service.

[FR Doc. 2024-23449 Filed 10-9-24; 8:45 am]

BILLING CODE 4910-13-P